FEDERAL EMERGENCY MANAGEMENT AGENCY

44 CFR Part 206

RIN 3067-AD25

Disaster Assistance; Federal Assistance to Individuals and Households

AGENCY: Federal Emergency Management Agency (FEMA).

ACTION: Interim final rule; correction.

SUMMARY: We, FEMA, published an interim final rule on September 30, 2002, 67 FR 61446, concerning Federal disaster assistance to individuals and households. There were a number of errors that were misleading and need clarification. This document corrects those errors.

EFFECTIVE DATE: September 30, 2002.

FOR FURTHER INFORMATION CONTACT: Michael Hirsch; Response and Recovery Directorate; (202) 646-4099, or (e-mail) at Michael.Hirsch@fema.gov.

SUPPLEMENTARY INFORMATION: On September 30, 2002 we published an interim final rule on, 67 FR 61446, concerning Federal disaster assistance to individuals and households. There were a number of inadvertent errors in that rule, and this document corrects those errors.

In the interim final rule (FR Doc. 02-24773), published September 30, 2002, 67 FR 61446, make the following corrections:

1. On page 61448, in the second line of the third column, correct the reference “206.110” to read “206.101”.

PART 206—[CORRECTED]

2. On page 61452, in the first column, correct amendatory instruction “2.” to read as follows:

2. Subpart D is amended by revising the heading and adding §§ 206.110 through 206.120 to read as follows:

§ 206.115 [Corrected]

3. On page 61455, in the sixth line from the bottom of the third column, correct the reference “206.111(a)” to read “206.120(a)”.

§ 206.117 [Corrected]

4. On page 61456 in the 31st line from the top of the second column, correct “(i) Direct Assistance” to read “(ii) Direct Assistance”.

5. On page 61456 on the 18th line from the bottom of the third column, correct “206.119(e)” to read “206.110(e)”.

§ 206.120 [Corrected]

6. On page 61459 on the 37th line from the top of the third column, correct “(vii) Processing for retention of records” to read “(viii) Process for retention of records”.

Dated: October 3, 2002.
John R. D'Araujo, Jr.,
Assistant Director, Response and Recovery Directorate.

[FR Doc. 02-25681 Filed 10-8-02; 8:45 am]

BILLING CODE 6718-02-P